DEPARTMENT OF HEALTH AND HUMAN SERVICES

Indian Health Service

Health Promotion and Disease Prevention; Correction

ACTION: Notice; Correction.

SUMMARY: The Indian Health Service published a document in the Federal Register on April 14, 2005. The document contained one error.

FOR FURTHER INFORMATION CONTACT: Patricia Spottedhorse, Division of Grants Operation, Indian Health Service, 801 Thompson Avenue, Suite 120, Rockville, MD 20852, Telephone (301) 443-5204. (This is snot a toll-free number.)

Correction

In the Federal Register of April 14, 2005, in FR 05-7460, on page 19772, in the second column, Earliest Anticipated Start Date should be September 30, 2005.

Dated: April 21, 2005.
Charles W. Grim,
Assistant Surgeon General, Director, Indian Health Service.

[FR Doc. 05-8473 Filed 4-27-05; 8:45 am]

BILLING CODE 4165-16-M